DEPARTMENT OF TRANSPORTATION

Federal Aviation Administration

14 CFR Part 39

[Docket No. FAA-2005-21836; Directorate Identifier 2005-CE-36-AD; Amendment 39-14415; AD 2005-25-22]

RIN 2120-AA64

Airworthiness Directives; Przedsiebiorstwo Doswiadczalno-Produkcyjne Szybownictwa “PZL-Bielsko” Model SZD-50-3 “Puchacz” Gliders

AGENCY: Federal Aviation Administration (FAA), DOT.

ACTION: Final rule.

SUMMARY: The FAA adopts a new airworthiness directive (AD) for all Przedsiebiorstwo Doswiadczalno-Produkcyjne Szybownictwa “PZL-Bielsko” Model SZD-50-3 “Puchacz” gliders. This AD requires you to perform a visual inspection of the turnbuckle link for cracks or wear and replace if cracks or wear is found. This action only applies to those gliders where the turnbuckle is directly connected to the pedal. This AD results from mandatory continuing airworthiness information (MCAI) issued by the airworthiness authority for Poland. We are issuing this AD to detect and correct cracks in the turnbuckle link, which could result in failure of the rudder cable. This failure could lead to loss of control of the glider.

DATES: This AD becomes effective on January 27, 2006.

As of January 27, 2006, the Director of the Federal Register approved the incorporation by reference of certain publications listed in the regulation.

ADDRESSES: To get the service information identified in this AD, contact Allstar PZL Glider Sp. z o.o., ul.Ciexzynska 325, 43-300 Bielsko-Biala, Poland; telephone: 43 33 812 50 26; facsimile: 48 33 812 37 39; Web site: http://www.szd.com.pl.

To view the AD docket, go to the Docket Management Facility; U.S. Department of Transportation, 400 Seventh Street, SW., Nassif Building, Room PL-401, Washington, DC 20590-001 or on the Internet at http://dms.dot.gov. The docket number is FAA-2005-21836; Directorate Identifier 2005-CE-36-AD.

FOR FURTHER INFORMATION CONTACT: Gregory Davison, Aerospace Engineer, ACE-112, Small Airplane Directorate, 901 Locust, Room 301, Kansas City, Missouri 64106; telephone: (816) 329-4130; facsimile: (816) 329-4090.

SUPPLEMENTARY INFORMATION:

Discussion

What events have caused this AD? The Civil Aviation Office, which is the airworthiness authority for Poland, recently notified FAA that an unsafe condition may exist on all Przedsiebiorstwo Doswiadczalno-Produkcyjne Szybownictwa “PZL-Bielsko” Model SZD-50-3 “Puchacz” gliders. The Civil Aviation Office reports a broken turnbuckle on a glider performing rudder operations in flight. Specifically, material fatigue caused the end of the turnbuckle that connects the rudder cable with rear seat, right-side pedal to break. Occupants, because of glider design, may have stepped on the rudder cable while entering or exiting the glider, putting stress on the turnbuckle link. This may have contributed to the material fatigue.

What is the potential impact if FAA took no action? Cracks or wear in the turnbuckle link could result in failure of the rudder cable. This failure could lead to loss of control of the glider.

Has FAA taken any action to this point? We issued a proposal to amend part 39 of the Federal Aviation Regulations (14 CFR part 39) to include an AD that would apply to all “PZL-Bielsko” Model SZD-50-3 “Puchacz” gliders. This proposal was published in the Federal Register as a notice of proposed rulemaking (NPRM) on August 10, 2005 (70 FR 46439). The NPRM proposed to detect and correct cracks in the turnbuckle link that could result in failure of the rudder cable. This failure could lead to loss of control of the glider.

Comments

Was the public invited to comment? We provided the public the opportunity to participate in developing this AD. We received no comments on the proposal or on the determination of the cost to the public.

Conclusion

What is FAA's final determination on this issue? We have carefully reviewed the available data and determined that air safety and the public interest require adopting the AD as proposed except for minor editorial corrections. We have determined that these minor corrections:

—Are consistent with the intent that was proposed in the NPRM for correcting the unsafe condition; and

—Do not add any additional burden upon the public than was already proposed in the NPRM.

Changes to 14 CFR Part 39—Effect on the AD

How does the revision to 14 CFR part 39 affect this AD? On July 10, 2002, the FAA published a new version of 14 CFR part 39 (67 FR 47997, July 22, 2002), which governs the FAA's AD system. This regulation now includes material that relates to altered products, special flight permits, and alternative methods of compliance. This material previously was included in each individual AD. Since this material is included in 14 CFR part 39, we will not include it in future AD actions.

Costs of Compliance

How many gliders does this AD impact? We estimate that this AD affects 8 gliders in the U.S. registry.

What is the cost impact of this AD on owners/operators of the affected gliders? We estimate the following costs to do this inspection:

Labor cost | Total cost per glider | Total cost on U.S. operators
1 workhour × $65 = $65 | $65 | $520

We estimate the following costs to do any necessary replacements that would be required based on the results of this inspection. We have no way of determining the number of gliders that may need this repair/replacement:

Labor cost | Parts cost | Total cost per glider
1 workhour × $65 = $65 | $20 | $85

Authority for This Rulemaking

What authority does FAA have for issuing this rulemaking action? Title 49 of the United States Code specifies the FAA's authority to issue rules on aviation safety. Subtitle I, section 106 describes the authority of the FAA Administrator. Subtitle VII, Aviation Programs, describes in more detail the scope of the agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this AD.

Regulatory Findings

Will this AD impact various entities? We have determined that this AD will not have federalism implications under Executive Order 13132. This AD will not have a substantial direct effect on the States, on the relationship between the national government and the States, or on the distribution of power and responsibilities among the various levels of government.

Will this AD involve a significant rule or regulatory action? For the reasons discussed above, I certify that this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a summary of the costs to comply with this AD (and other information as included in the Regulatory Evaluation) and placed it in the AD Docket. You may get a copy of this summary by sending a request to us at the address listed under ADDRESSES. Include “Docket No. FAA-2005-21836; Directorate Identifier 2005-CE-36-AD” in your request.

List of Subjects in 14 CFR Part 39

Air transportation, Aircraft, Aviation safety, Incorporation by reference, Safety.

Adoption of the Amendment

Accordingly, under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. FAA amends § 39.13 by adding a new AD to read as follows:

2005-25-22 Przedsiebiorstwo Doswiadczalno-Produkcyjne Szybownictwa “PZL-Bielsko”: Amendment 39-14415; Docket No. FAA-2005-21836; Directorate Identifier 2005-CE-36-AD.

When Does This AD Become Effective?

(a) This AD becomes effective on January 27, 2006.

What Other ADs Are Affected by This Action?

(b) None.

What Gliders Are Affected by This AD?

(c) This AD affects Model SZD-50-3 “Puchacz” gliders, all serial numbers, that are certificated in any category.

What Is the Unsafe Condition Presented in This AD?

(d) This AD is the result of a turnbuckle link breaking in flight. The actions specified in this AD are intended to detect and correct cracks in the turnbuckle link, which could result in failure of the rudder cable. This failure could lead to loss of control of the glider.

What Must I Do To Address This Problem?

(e) To address this problem, you must do the following on gliders where the turnbuckle is directly connected to the pedal:

Actions | Compliance | Procedures
(1) Visually inspect the turnbuckle end for cracks or wear. Use a 10X magnifying glass. The magnifying power in this AD takes precedence over the magnifying power stated in Allstar PZL Glider Ltd. Bulletin No. BE-054/SZD-50-3/2003 “Puchacz.” Inspection is not required on gliders where additional short cables between the rear seat pedal and turnbuckle have been installed | Initially within 25 hours time-in-service (TIS) after January 27, 2006 (the effective date of this AD), and repetitively thereafter at intervals not to exceed 50 hours TIS | Follow Allstar PZL Glider Ltd. Bulletin No. BE-054/SZD-50-3/2003 “Puchacz,” as approved by Civil Aviation Office Airworthiness Directive No. SP-0012-2004-A, dated February 5, 2004.
(2) If cracks or wear is found during any inspection required by this AD, replace the turnbuckle end. The turnbuckle must have a steel end and support a maximum load of 6,100 newtons (converts to 1,371 pounds of force), following Allstar PZL Glider Ltd. Bulletin No. BE-054/SZD-50-3/2003 “Puchacz.” | Prior to further light after the inspection where cracks or wear is found | Follow the procedures in the maintenance manual.

May I Request an Alternative Method of Compliance?

(f) You may request a different method of compliance or a different compliance time for this AD by following the procedures in 14 CFR 39.19. Unless FAA authorizes otherwise, send your request to your principal inspector. The principal inspector may add comments and will send your request to the Manager, Standards Office, Small Airplane Directorate, FAA. For information on any already approved alternative methods of compliance, contact Gregory Davison, Aerospace Engineer, ACE-112, Small Airplane Directorate, 901 Locust, Room 301, Kansas City, Missouri 64106; telephone: (816) 329-4130; facsimile: (816) 329-4090.

Is There Other Information That Relates to This Subject?

(g) Allstar PZL Glider Ltd. Bulletin No. BE-054/SZD-50-3/2003 “Puchacz” and Civil Aviation Office Airworthiness Directive No. SP-0012-2004-A, dated February 5, 2004, also address the subject of this AD.

Does This AD Incorporate Any Material by Reference?

(h) You must do the actions required by this AD following the instructions in Allstar PZL Glider Ltd. Bulletin No. BE-054/SZD-50-3/2003 “Puchacz,” as approved by Civil Aviation Office Airworthiness Directive No. SP-0012-2004-A, dated February 5, 2004. The Director of the Federal Register approved the incorporation by reference of this service bulletin in accordance with 5 U.S.C. 552(a) and 1 CFR part 51. To get a copy of this service information, contact Allstar PZL Glider Sp. z o.o., ul.Ciexzynska 325, 43-300 Bielsko-Biala, Poland; telephone: 43 33 812 50 26; facsimile: 48 33 812 37 39; Web site: http://www.szd.com.pl. To review copies of this service information, go to the National Archives and Records Administration (NARA). For information on the availability of this material at NARA, go to: http://www.archives.gov/federal_register/code_of_federal_regulations/ibr_locations.html or call (202) 741-6030. To view the AD docket, go to the Docket Management Facility; U.S. Department of Transportation, 400 Seventh Street, SW., Nassif Building, Room PL-401, Washington, DC 20590-001 or on the Internet at http://dms.dot.gov. The docket number is FAA-2005-21836; Directorate Identifier 2005-CE-36-AD.

Issued in Kansas City, Missouri, on December 5, 2005.
James E. Jackson,
Acting Manager, Small Airplane Directorate, Aircraft Certification Service.

[FR Doc. 05-23896 Filed 12-19-05; 8:45 am]

BILLING CODE 4910-13-P